DEPARTMENT OF THE INTERIOR

Bureau of Land Management

[LLOR936000.L14400000.ET0000.16XL1109AF; HAG 16-0086 OR-51891]

Notice of Proposed Withdrawal Extension for Edson Creek Park and Opportunity for Public Meeting, Oregon

AGENCY: Bureau of Land Management, Interior.

ACTION: Notice.

SUMMARY: The Assistant Secretary of the Interior for Land and Minerals Management proposes to extend the duration of Public Land Order (PLO) No. 7246 for an additional 20-year term. PLO No. 7246 withdrew 44.48 acres of public land from settlement, sale, location, or entry under the general land laws, including the United States mining laws, but not from the mineral leasing laws, to protect the Edson Creek Park recreation site in Curry County, Oregon. Public Land Order No. 7246 will expire on February 19, 2017, unless extended. This notice gives the public an opportunity to comment on the proposed action and to request a public meeting.

DATES: Comments and public meeting requests must be received by September 13, 2016.

ADDRESSES: Comments and meeting requests should be sent to the Bureau of Land Management (BLM) Oregon/Washington State Director, P.O. Box 2965, Portland, Oregon 97208-2965.

FOR FURTHER INFORMATION CONTACT: Jacob Childers, BLM Oregon/Washington State Office at 503-808-6225. Persons who use a telecommunications device for the deaf (TDD) may call the Federal Information Relay Service (FIRS) at 1-800-877-8339 to contact the above individual. The FIRS is available 24 hours a day, 7 days a week, to leave a message or question. You will receive a reply during normal business hours.

SUPPLEMENTARY INFORMATION: The BLM has filed an application to extend the withdrawal established by PLO No.7246 for an additional 20-year term, subject to valid existing rights. The Assistant Secretary for Land and Minerals Management has approved the BLM's petition/application for a proposed withdrawal extension. Public Land Order No. 7246 (62 FR 7796 (1997)) is incorporated herein by reference. The area withdrawn by PLO No. 7246 contains 44.48 acres in Curry County, Oregon.

The purpose for which the withdrawal was originally established, to protect the investment of funds and infrastructure at the Edson Creek Park recreation site, still exists.

The use of right-of-way, interagency agreement, or cooperative agreement would not adequately protect the public recreation site at Edson Creek Park. There are no alternative sites that can be considered because the land described is the only land that encompasses the Edson Creek Park.

The BLM would not need to acquire water rights to fulfill the purpose of the requested withdrawal extension.

Records related to the application may be examined by contacting Jacob Childers at the address or phone number listed above.

For a period until September 13, 2016, all persons who wish to submit comments, suggestions, or objections in connection with the proposed withdrawal extension may present their views in writing to the BLM Oregon/Washington State Office State Director at the address indicated above.

Comments, including names and street addresses of respondents, will be available for public review at the address indicated above during regular business hours. Be advised that your entire comment—including your personal identifying information—may be made publicly available. While you can ask us to withhold your personal identifying information from public review, we cannot guarantee that we will be able to do so.

Notice is hereby given that an opportunity for a public meeting is afforded in connection with the proposed withdrawal extension. All interested parties who desire a public meeting for the purpose of being heard on the proposed withdrawal extension must submit a written request to the BLM State Director at the address indicated above by September 13, 2016. Upon determination by the authorized officer that a public meeting will be held, a notice of the time and place will be published in the Federal Register and a local newspaper at least 30 days before the scheduled date of the meeting.

This extension application will be processed in accordance with the regulations set forth in 43 CFR 2310.4.

Leslie A. Frewing,
Acting Chief, Branch of Land, Mineral, and Energy Resources.

[FR Doc. 2016-14090 Filed 6-14-16; 8:45 am]

BILLING CODE 4310-33-P